DEPARTMENT OF STATE

[Public Notice 3736]

Culturally Significant Objects Imported for Exhibition Determinations: “The Short Century: Independence and Liberation Movements in Africa 1945-1994”

ACTION: Notice.

SUMMARY: Notice is hereby given of the following determinations: Pursuant to the authority vested in me by the Act of October 19, 1965 [79 Stat. 985, 22 U.S.C. 2459], the Foreign Affairs Reform and Restructuring Act of 1998 [112 Stat. 2681 et seq.], Delegation of Authority No. 234 of October 1, 1999 [64 FR 56014], Delegation of Authority No. 236 of October 19, 1999 [64 FR 57920], as amended by Delegation of Authority No. 236-3 of August 28, 2000 [65 FR 53795], and Delegation of Authority dated June 29, 2001, I hereby determine that the objects to be included in the exhibit, “The Short Century: Independence and Liberation Movements in Africa 1945-1994,” imported from abroad for the temporary exhibition without profit within the United States, are of cultural significance. These objects are imported pursuant to loan agreements with foreign lenders. I also determine that the temporary exhibition or display of the exhibit objects at the Museum of Contemporary Art, Chicago, Illinois from on or about September 8, 2001, to on or about December 30, 2001, and at the P.S.1 Contemporary Art Center, Long Island City, New York from on or about February 10, 2002, to on or about May 5, 2002, is in the national interest. Public Notice of these determinations is ordered to be published in the Federal Register.

FOR FURTHER INFORMATION CONTACT: For further information, including a list of exhibit objects, contact Paul W. Manning, Attorney-Adviser, Office of the Legal Adviser, 202/619-5997, and the address is United States Department of State, SA-44, Room 700, 301 4th Street, SW., Washington, DC 20547-0001.

Dated: July 26, 2001.
Brian J. Sexton,
Deputy Assistant Secretary for Professional Exchanges, United States Department of State.

[FR Doc. 01-19332 Filed 8-1-01; 8:45 am]

BILLING CODE 4710-08-P